DEPARTMENT OF ENERGY

Federal Energy Regulatory Commission

[Project No. 2790-055]

Boott Hydropower, Inc.; Eldred L Field Hydroelectric Facility Trust; Notice of Application for Amendment of License and Soliciting Comments, Motions To Intervene, and Protests

August 10, 2010.

Take notice that the following hydroelectric application has been filed with the Commission and is available for public inspection:

a. Type of Application: Amendment of License.

b. Project No.: 2790-055.

c. Date Filed: July 6, 2010.

d. Applicant: Boott Hydropower, Inc. and Eldred L Field Hydroelectric Facility Trust.

e. Name of Project: Lowell Hydroelectric Project.

f. Location: The project is located on the Merrimack River in Middlesex County, Massachusetts.

g. Pursuant to: Federal Power Act, 16 U.S.C. 791a-825r.

h. Applicant Contact: Kevin Webb, Vice Regulatory Affairs Coordinator, Boott Hydropower, Inc., One Tech Drive, Suite 220, Andover, MA 01810. Tel: (978) 681-1900 Ext 809.

i. FERC Contact: Any questions on this notice should be addressed to Vedula Sarma at (202) 502-6190 or vedula.sarma@ferc.gov.

j. Deadline for filing comments and or motions: September 10, 2010.

Comments, protests, and interventions may be filed electronically via the Internet in lieu of paper. See 18 CFR 385.2001(a)(1)(iii) and the instructions on the Commission's Web site (http://www.ferc.gov/docs-filing/efiling.asp). Commenters can submit brief comments up to 6,000 characters, without prior registration, using the eComment system (http://www.ferc.gov/docs-filing/ecomment.asp) and must include name and contact information at the end of comments. The Commission strongly encourages electronic filings.

All documents (original and seven copies) filed by paper should be sent to: Secretary, Federal Energy Regulatory Commission, 888 First Street, NE., Washington, DC 20426. Please include the project number (P-2790-055) on any comments or motions filed.

The Commission's Rules of Practice and Procedure require all interveners filing documents with the Commission to serve a copy of that document on each person whose name appears on the official service list for the project. Further, if an intervener files comments or documents with the Commission relating to the merits of an issue that may affect the responsibilities of a particular resource agency, they must also serve a copy of the document on that resource agency. A copy of any motion to intervene must also be served upon each representative of the Applicant specified in the particular application.

k. Description of Application: The licensees request authorization to replace the existing 5-foot-high wooden flashboard system on the Pawtucket Dam with an identical height pneumatic crest gate system. The licensed normal pool elevation of 92.2 feet msl (NGVD 1929) will not change. Additionally, during the interim period of approval of the amendment request and completion of construction of the pneumatic crest gate system, the licensees request a temporary modification to the height of the existing wooden flashboard's support pins from 5 feet exposed to 4.5 feet exposed; the top of the wooden flashboards will be six inches higher than the top of the support pins.

l. Locations of the Application: A copy of the application is available for inspection and reproduction at the Commission's Public Reference Room, located at 888 First Street, NE, Room 2A, Washington, DC 20426, or by calling (202) 502-8371. This filing may also be viewed on the Commission's Web site using the “eLibrary” link at http://elibrary.ferc.gov/idmws/search/fercgensearch.asp . Enter the docket number excluding the last three digits (P-2790) in the docket number field to access the document. You may also register online at http://www.ferc.gov/docs-filing/esubscription.asp to be notified via e-mail of new filings and issuances related to this or other pending projects. For assistance, call 1-866-208-3676 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Any filings must bear in all capital letters the title “COMMENTS”, “PROTEST”, or “MOTION TO INTERVENE”, as applicable, and the Project Number of the particular application to which the filing refers.

p. Agency Comments: Federal, state, and local agencies are invited to file comments on the described application. A copy of the application may be obtained by agencies directly from the Applicant. If an agency does not file comments within the time specified for filing comments, it will be presumed to have no comments. One copy of an agency's comments must also be sent to the Applicant's representatives.

Nathaniel J. Davis, Sr.,
Deputy Secretary.

[FR Doc. 2010-20503 Filed 8-18-10; 8:45 am]

BILLING CODE 6717-01-P